DEPARTMENT OF JUSTICE

Antitrust Division

Notice Pursuant to the National Cooperative Research and Production Act of 1993—Auto Body Consortium, Inc.: Intelligent Resistance Welding Joint Venture

Notice is hereby given that, on January 16, 2001, pursuant to section 6(a) of the National Cooperative Research and Production Act of 1993, 15 U.S.C. 4301 et seq. (“the Act”), Auto Body Consortium, Inc. has filed written notifications simultaneously with the Attorney General and the Federal Trade Commission disclosing changes in its membership status. The notifications were filed for the purpose of extending the Act's provisions limiting the recovery of antitrust plaintiffs to actual damages under specified circumstances. Specifically, Medar, Inc., Farmington Hills, MI became a 100% owned subsidiary of Welding Technology Group. In addition, ComauPICO, Southfield, MI; and Oxford Automotive (formerly Lobdell-Emery Company), Troy, MI have been added as parties to this venture. Also, Progressive Tool and Industries Co., Southfield, MI has been dropped as a party to this venture.

No other changes have been made in either the membership or planned activity of the group research project. Membership in this group research project remains open, and Auto Body Consortium, Inc. intends to file additional written notification disclosing all changes in membership.

On September 18, 1995, Auto Body Consortium, Inc. filed its original notification pursuant to section 6(a) of the Act. The Department of Justice published a notice in the Federal Register pursuant to section 6(b) of the Act on December 6, 1995 (60 FR 62476).

The last notification was filed with the Department on April 28, 1999. A notice was published in the Federal Register pursuant to section 6(b) of the Act on October 1, 1999 (64 FR 53415).

Constance K. Robinson,
Director of Operations, Antitrust Division.

[FR Doc. 01-5718 Filed 3-7-01; 8:45 am]

BILLING CODE 4410-11-M